DEPARTMENT OF TRANSPORTATION

Federal Highway Administration

Environmental Impact Statement: Transylvania County, NC

AGENCY: Federal Highway Administration (FHWA), DOT.

ACTION: Notice of intent.

SUMMARY: The FHWA is issuing this notice to advise the public that an environmental impact statement will be prepared for a proposed highway project in Transylvania County, North Carolina.

FOR FURTHER INFORMATION CONTACT: Clarence W. Coleman, P.E., Area Engineer, Federal Highway Administration, 310 New Bern Avenue, Ste. 410, Raleigh, North Carolina, 27601-1418, Telephone: (919) 856-4346.

SUPPLEMENTARY INFORMATION: The FHWA, in cooperation with the North Carolina Department of Transportation, will prepare an Environmental Impact Statement (EIS) on a proposal to improve North Carolina Route 215 (NC 215) in Transylvania County, North Carolina. An Environmental Assessment (EA) for the improvements was approved on July 12, 1998. Based on comments received from the November 19, 1998, Informal Public Hearing on the project and the subsequent input from various federal and state agencies, the FHWA and NCDOT has agreed to prepare an EIS for the NC 215 improvements.

Alternatives under consideration include (1) the “no build”, (2) improve existing facilities, and (3) constructing a two-lane highway on new location.

Over the last few years, several meetings have been held with appropriate federal, state, and local agencies, and with private organizations and citizens who have previously expressed or are known to have interest in this proposal. The Draft EIS will be available for public and agency review and comment prior to the public hearing. No formal scoping meeting will be held.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Clarence W. Coleman,
Area Engineer, Raleigh, North Carolina.

[FR Doc. 05-767 Filed 1-13-05; 8:45 am]

BILLING CODE 4910-22-M